FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A copy of the agreement is available through the Commission's Web site (http://www.fmc.gov) or by contacting the Office of Agreements at (202) 523-5793 or tradeanalysis@fmc.gov.

Agreement No.: 011962-007.

Title: Consolidated Chassis Management Pool Agreement.

Parties: The Ocean Carrier Equipment Management Association and its member lines; the Association's subsidiary Consolidated Chassis Management LLC and its affiliates; Chicago Ohio Valley Consolidated Chassis Pool LLC; China Shipping Container Lines Co., Ltd.; Companhia Libra de Navegacao; Compania Libra de Navegacion Uruguay; Matson Navigation Co.; Mediterranean Shipping Co., S.A.; Midwest Consolidated Chassis Pool LLC; Norasia Container Lines Limited; Westwood Shipping Lines; and Zim Integrated Shipping Services Ltd.

Filing Party: Jeffrey F. Lawrence, Esq.; Cozen O'Conner; 1627 I Street, NW., Suite 1100; Washington, DC 20006-4007.

Synopsis: The amendment provides authority for the corporate restructuring of Consolidated Chassis Management and its affiliated chassis pools, including authority to form separate business entities to facilitate the purpose of the Agreement; allows for increased participation in the pools regarding chassis carrying international shipping containers by non-ocean carrier entities, including shippers, inland carriers, and chassis leasing companies; provides limited authority for chassis leasing companies and inland carriers to participate in pool governances; and authorizes pools formed under the Agreement, upon the approval of a pool's governing body, to interchange chassis directly with non-contributing inland carriers, shippers and others and to develop terms of use and charges for such interchanged chassis.

By Order of the Federal Maritime Commission.
Dated: August 12, 2011.
Karen V. Gregory,
Secretary.

[FR Doc. 2011-21009 Filed 8-16-11; 8:45 am]

BILLING CODE P